DEPARTMENT OF JUSTICE

Notice of Lodging of Proposed Consent Decree under the Clean Air Act

On January 9, 2024, the Department of Justice lodged a proposed Consent Decree with the United States District Court for the Western District of New York in the lawsuit entitled United States of America v. Allied Waste Niagara Falls Landfill, LLC, Case No. 1:24-cv-36.

The United States filed this lawsuit to seek civil penalties and injunctive relief for violations of the Clean Air Act, 42 U.S.C. 7401 et seq. (“CAA”). The alleged violations stem from the failure by Allied Niagara Falls Landfill, LLC (“Allied”) to comply with federally-enforceable regulations applicable to municipal solid waste (“MSW”) landfills. Allied operates a MSW landfill in Niagara Falls, New York.

The Consent Decree provides for Allied to come into compliance with the Clean Air Act, 42 U.S.C. 7401 et seq., and its municipal solid waste landfill regulations by installing and operating a gas collection and control system at its landfill and to pay a $671,000 civil penalty.

The publication of this notice opens a period for public comment on the proposed Consent Decree. Comments should be addressed to the Assistant Attorney General, Environment and Natural Resources Division, and should refer to Allied Waste Niagara Falls Landfill, LLC, Civil Action No. 1:24-cv-36, D.J. Ref. No. 90-5-2-1-11610. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $39.75 (25 cents per page reproduction cost) payable to the United States Treasury.

Henry Friedman,
Assistant Section Chief, Environmental Enforcement Section, Environment and Natural Resources Division.

[FR Doc. 2024-00555 Filed 1-11-24; 8:45 am]

BILLING CODE 4410-15-P